DEPARTMENT OF EDUCATION

Office of Special Education and Rehabilitative Services; Overview Information; Technical Assistance and Dissemination to Improve Services and Results for Children With Disabilities; Notice Inviting Applications for New Awards for Fiscal Year (FY) 2008

Catalog of Federal Domestic Assistance (CFDA) Number: 84.326A and 84.326N.

Note: This notice invites applications for two separate competitions. For key dates, contact person information, and funding information regarding each competition, see the chart in the Award Information section of this notice.

Dates:

Applications Available: See chart.

Deadline for Transmittal of Applications: See chart.

Deadline for Intergovernmental Review: See chart.

Full Text of Announcement

I. Funding Opportunity Description

Purpose of Program: The purpose of the Technical Assistance and Dissemination to Improve Services and Results for Children with Disabilities program is to promote academic achievement and improve results for children with disabilities by supporting technical assistance (TA), model demonstration projects, dissemination of useful information, and implementation activities that are supported by scientifically based research.

Priorities: In accordance with 34 CFR 75.105(b)(2)(iv) and (v), these priorities are from allowable activities specified in the statute, or otherwise authorized in the statute (see sections 663 and 681(d) of the Individuals with Disabilities Education Act (IDEA)). Each of the absolute priorities announced in this notice corresponds to a separate competition as follows:

Absolute priority | Competition CFDA No.
The IDEA Partnership Project | 84.326A
National Dissemination Center for Children with Disabilities | 84.326N

Absolute Priorities: For FY 2008, these priorities are absolute priorities. Under 34 CFR 75.105(c)(3), for each competition, we consider only applications that meet the absolute priority for that competition.

The priorities are:

Absolute Priority 1—The IDEA Partnership Project (84.326A)

Background

The IDEA and the Elementary and Secondary Education Act of 1965 (ESEA), as amended by the No Child Left Behind Act of 2001 (NCLB), and their implementing regulations contain a number of provisions related to the instruction and assessment of, and accountability for, students with disabilities that require changes in policy and practice at many different levels of the educational service system and in both regular and special education: State and district policies must change, teachers must be trained, administrative supports must be provided, and parents must be informed. Coordinating change across regular and special education is challenging because teachers, administrators, other professionals, and parents typically differ in their training, experiences, priorities, and perspectives.

In order to support and facilitate the effective implementation of IDEA and NCLB, the Office of Special Education Programs (OSEP) has funded partnership projects that bring together representatives from national associations that have a vested interest in improving results for all students, including students with disabilities. These associations represent a wide range of interests and viewpoints in both regular and special education, including those of policymakers, local administrators, service providers, and family members. Each of these national associations has members working directly with administrators, teachers, parents, and others at the State and local levels (State and local affiliates) who are responsible for implementing the requirements of IDEA and NCLB.

An example of how partnerships with national organizations worked together to support the implementation of an instructional practice that affects both regular and special education is the work of the OSEP-funded IDEA Partnership Project's National Community of Practice on NCLB/IDEA Collaboration. The project developed TA materials for their State and local affiliates to use to facilitate and promote schools' and districts' implementation of Response to Intervention (RTI) strategies. RTI was selected because changes in policies and practices at many different levels of the special education and regular education systems must be made to maximize the effectiveness of RTI approaches.¹

¹ RTI is a multi-level approach that seeks to maximize student achievement. Schools provide a research-based core curriculum to all students in regular education and use universal screening to identify students at risk for poor learning outcomes. At-risk learners are provided with research-based interventions, and their progress is continuously monitored. Decisions about the intensity and nature of interventions that students receive and their potential eligibility to receive special education and related services are made based on the progress monitoring data (Hintz, 2008; National Center on Response to Intervention, 2008).

The TA materials were designed to articulate a consistent message about RTI, using appropriate formats and content relevant to the information needed by policy makers, local administrators, service providers, and families to support effective implementation of RTI. This approach helped State and local affiliates of multiple national associations understand the core components of RTI, engage with each other in discussions about RTI, and work together to align policy with effective RTI implementation at all levels of the education system. For further information on the past work of the Partnership Project, go to http://www.ideapartnership.org/.

The Department seeks to fund another Partnership project to provide opportunities for national associations to collaborate with each other and with their collective State and local affiliates to improve the implementation of education policies and practices in States. These associations and their State and local affiliates need continued support to engage in meaningful dialogue and problem solving that will improve the implementation of IDEA and NCLB within States.

Priority:

The purpose of this priority is to fund a cooperative agreement to support the establishment and operation of an IDEA Partnership Project (Partnership Project) that will strengthen and unite national associations, and their State and local affiliates, representing policymakers, service providers, local-level administrators, and families to collaborate to improve the implementation of IDEA and NCLB.

To be considered for funding under this absolute priority, applicants must meet the application requirements contained in the priority. The project funded under this absolute priority also must meet the programmatic and administrative requirements specified in the priority.

Application Requirements. An applicant must include in its application—

(a) A logic model that depicts, at a minimum, the goals, activities, outputs, and outcomes of the proposed project. A logic model communicates how a project will achieve its outcomes and provides a framework for both the formative and summative evaluations of the project;

Note: For more information on logic models, the following Web site lists multiple online resources: http://www.cdc.gov/eval/resources.htm.

(b) A plan to implement the activities described in the Project Activities section of this priority;

(c) A plan, linked to the proposed project's logic model, for a formative evaluation of the proposed project's activities. The plan must describe how the formative evaluation will use clear performance objectives to ensure continuous improvement in the operation of the proposed project, including objective measures of progress in implementing the project and ensuring the quality of products and services;

(d) A budget for attendance at the following:

(1) A one and one half day kick-off meeting to be held in Washington, DC within four weeks after receipt of the award, and an annual planning meeting held in Washington, DC with the OSEP Project Officer during each subsequent year of the project period.

(2) A three-day Project Directors' Conference in Washington, DC during each year of the project period.

(3) A four-day Technical Assistance and Dissemination Conference in Washington, DC during each year of the project period.

(4) Two two-day trips annually to attend Department briefings, Department-sponsored conferences, and other meetings, as requested by OSEP; and

(e) A line item in the proposed budget for an annual set-aside of five percent of the award amount to support emerging needs that are consistent with the proposed project's activities, as those needs are identified in consultation with OSEP.

Note: With approval from the OSEP Project Officer, the Partnership Project must reallocate any remaining funds from this annual set-aside no later than the end of the third quarter of each budget period.

(f) Assurances that no financial commitments were made to any associations or membership organizations in developing this application. The Partnership Project will negotiate any financial commitments to associations during the first month of the project period with final approval by OSEP.

Project Activities. To meet the requirements of this priority, the Partnership Project, at a minimum, must conduct the following activities:

(a) Form a single partnership among national associations and their State and local affiliates that focuses on regular education and special education in order to meet the collective needs of the following four audiences:

(1) Policymakers including, but not limited to, associations of chief State school officers, State boards of education, local school boards, State directors of special education, ESEA Title I coordinators, mental health coordinators, children with special health care needs coordinators, deans of schools of education, department chairs at institutions of higher education, superintendents, governors, and State legislators.

(2) Service providers including, but not limited to, associations of regular and special education teachers, community-based providers of education services, vocational education teachers, related services providers, and paraprofessionals.

(3) Local-level administrators including, but not limited to, associations of elementary, middle, and secondary school principals; regular and special education administrators; and administrators of private schools.

(4) Families including, but not limited to, associations of parents and family members of children in regular and special education, and disability organizations representing individuals with disabilities and family members of individuals with disabilities.

(b) Establish and maintain an advisory committee to review the activities and outcomes of the Partnership Project and provide programmatic support and advice throughout the project period. At a minimum, the advisory committee must meet on an annual basis in Washington, DC, and consist of individuals representing each of the four constituency groups listed in paragraph (a) and representatives from OSEP and other federally-funded TA projects. The Partnership Project must submit the names of proposed members of the advisory committee to OSEP for approval within eight weeks after receipt of the award.

(c) Conduct a needs assessment of the partner organizations to identify their needs in relation to the implementation of IDEA and NCLB;

(d) Report results of the needs assessment to the advisory committee within the first three months of the project period.

(e) Based on the results of the needs assessment and with input from the advisory committee and the partnering organizations, develop and implement a plan annually for coordinated training, TA, dissemination, and outreach to the partners' State and local affiliates. Each annual plan must address needs related to the integration and coordination of regular and special education, as well as needs identified by OSEP in reviewing State Performance Plans and Annual Performance Reports. The project's annual plan, which must be submitted to OSEP for approval prior to implementation, must include the following information:

(1) How partnering organizations will reach their members at both the State and local levels and work with them and each other to implement the plan.

(2) How specific activities in the plan will be conducted and coordinated with those of other OSEP and Office of Elementary and Secondary Education (OESE)-funded TA centers, and a timeline for implementing the activities.

(3) If the plan includes implementing research-based practices or interventions, how partner organizations will support State and local affiliates to implement those practices or interventions to effectively implement NCLB and IDEA.

(4) How trainers who are members of partner organizations will be compensated for their training time.

(5) How partners will leverage other resources to support planned activities.

(6) How the Partnership Project will serve as a broker for TA services between the partners and other OSEP and OESE TA projects.

(f) Create opportunities for the Partnership Project's partnering organizations to engage in cross-stakeholder communication, learning, and strategic planning to address the complex challenges associated with implementing IDEA and NCLB to improve results for children with disabilities.

(g) Establish the following:

(1) A Web site that meets a government or industry-recognized standard for accessibility and that links to the Web site operated by the Technical Assistance Coordination Center (TACC), which OSEP intends to fund in FY 2008.

(2) A comprehensive, up-to-date, and searchable database of partners' products and activities that is accessible to all partners.

(3) A mechanism for regularly updating partners on new developments in relevant legislation.

(h) Communicate and collaborate, on an ongoing basis, with OSEP-funded projects, including the communities of practice, the Parent Training and Information Centers, the TACC, and the National Dissemination Center for Individuals with Disabilities, which OSEP intends to fund in FY 2008. This collaboration could include the joint development of products, the coordination of TA services, and the planning and carrying out of TA meetings and events.

(i) Although product development is not a primary function of this project, comply with the following requirements, when product development is needed:

(1) If OSEP funds a TA center in the content area that is the topic of the proposed product, but no product currently exists that will meet the needs of the Partnership Project, work with the content center to develop a product that is research-based (i.e., consistent with research and theory on the topic).

(2) Prior to developing any new product, whether paper or electronic, submit to the OSEP Project Officer and the Proposed Product Advisory Board at OSEP's TACC for approval, a proposal describing the content and purpose of the product.

(3) Before submitting a draft of a product to the OSEP Project Officer, request input from individuals representing each of the four constituency groups (listed in paragraph (a)(1) through (a)(4) under Project Activities).

(4) Coordinate with the National Dissemination Center for Individuals with Disabilities to develop an efficient and high-quality dissemination strategy that reaches the broad audiences to be targeted by the project. The Partnership Project must report to the OSEP Project Officer the outcomes of these coordination efforts.

(j) Contribute, on an ongoing basis, updated information on the Partnership Project's services to OSEP's Technical Assistance and Dissemination Matrix (http://matrix.rrfcnetwork.org/), which provides current information on Department-funded TA services to a range of stakeholders.

(k) Conduct a summative evaluation of the Partnership Project in collaboration with the OSEP-funded Center to Improve Project Performance (CIPP) as described in the following paragraphs. This summative evaluation must examine the outcomes or impact of the Partnership Project's activities in order to assess the effectiveness of those activities.

Note: The major tasks of CIPP would be to guide, coordinate, and oversee the summative evaluations conducted by selected Technical Assistance, Personnel Development, Parent Training and Information Center, and Technology projects that individually receive $500,000 or more funding from OSEP annually. The efforts of CIPP are expected to enhance individual project evaluations by providing expert and unbiased assistance in designing evaluations, conducting analyses, and interpreting data.

To fulfill the requirements of the summative evaluation to be conducted under the guidance of CIPP and with the approval of the OSEP Project Officer, the Partnership Project must—

(1) Hire or designate, with the approval of the OSEP Project Officer, a project liaison staff person with sufficient dedicated time, experience in evaluation, and knowledge of the Partnership Project to work with CIPP on the following tasks: (i) Planning for the Partnership Project's summative evaluation (e.g., selecting evaluation questions, developing a timeline for the evaluation, locating sources of relevant data, and refining the logic model used for the evaluation), (ii) developing the summative evaluation design and instrumentation (e.g., determining quantitative or qualitative data collection strategies, selecting respondent samples, and pilot testing instruments), (iii) coordinating the evaluation timeline with the implementation of the Partnership Project's activities, (iv) collecting summative data, and (v) writing reports of summative evaluation findings;

(2) Cooperate with CIPP staff in order to accomplish the tasks described in paragraph (1) of this section; and

(3) Dedicate $80,000 of the annual budget request for this project to cover the costs of carrying out the tasks described in paragraphs (1) and (2) of this section, implementing the Partnership Project's formative evaluation, and traveling to Washington, DC in the second year of the project period for the Partnership Project's review for continued funding.

(l) Maintain ongoing communication with the OSEP Project Officer through monthly phone conversations and e-mail communication.

Fourth and Fifth Years of the Project

In deciding whether to continue funding the Partnership Project for the fourth and fifth years, the Secretary will consider the requirements of 34 CFR 75.253(a), and in addition—

(a) The recommendation of a review team consisting of experts selected by the Secretary. This review will be conducted during a one-day intensive meeting in Washington, DC that will be held during the last half of the second year of the project period. Projects must budget for travel for this one-day intensive review;

(b) The timeliness and effectiveness with which all requirements of the negotiated cooperative agreement have been or are being met by the Partnership Project; and

(c) The quality, relevance, and usefulness of the Partnership Project's activities and products and the degree to which the Partnership Project's activities and products have contributed to changed practice and improved (1) collaboration across regular education, special education, and parent partner organizations to support and facilitate the effective implementation of IDEA and NCLB at the national, State, and local levels; (2) implementation of research-based practices; and (3) involvement of national organizations' State and local affiliates in the implementation of IDEA and NCLB at the State and local levels.

References

Fixen, D., Blase, K., Horner, R., & Sugai, G. (2008). —Concept paper: Developing the capacity for scaling up evidence-based programs in state departments of education (retrieved on May 12, 2008 from http://sisep.fmhi.usf.edu/docs/State_Capacity_Development_0208.pdf).

Hintz, (2008). Conceptual and Empirical Issues Related to Developing a Response-to-Intervention Framework. [Electronic version] (retrieved on May 14, 2008 from http://www.studentprogress.org/doc/Hintze2008ConceptualandEmpiricalIssuesofRTI.doc).

National Center on Response to Intervention (2008). What is RTI? (retrieved on May 14, 2008 from http://www.rti4success.org/).

National Research Center on Learning Disabilities. (2008). Core concepts of RTI. [Electronic version] (retrieved on April 10, 2008 from http://www.nrcld.org/about/research/rti/concepts.html)

Absolute Priority 2—National Dissemination Center for Children With Disabilities (84.326N)

Background

Along with an increased demand for educational accountability and improvement, diverse audiences, including educators and parents, have a greater need for information about education that addresses topics such as standards, assessments, and instructional practices (Petrides & Nodine, 2003). The increased need for information is reflected in an increase in the number of visits to the Web site of the National Dissemination Center for Children with Disabilities (NICHCY) funded by the Office of Special Education Programs (OSEP). The Center is a central source for information on disabilities in children, the laws that affect children with disabilities, and effective educational and early intervention practices that can be implemented to improve outcomes for students and infants and toddlers with disabilities.

Along with the increased need for information and the number of channels through which information is disseminated, individuals' preferences for obtaining information have changed (Caffarella, 2002; Kilgore, 2001). In 2005, NICHCY disseminated approximately 149,000 printed products in English and about 55,300 printed products in Spanish. In 2006, NICHCY disseminated a significantly smaller number of printed materials (approximately 27,000 total in English and Spanish), presumably reflecting consumers' increased use of a variety of technology and electronic retrieval methods to access information.

Current demographic patterns of students in regular education and special education, and of children participating in early intervention programs (U.S. Department of Education, 2007), indicate an increased prevalence of certain disabilities. Given this demographic change and the movement of students between regular and special education, the audience interested in information regarding children with disabilities and the Individuals with Disabilities Education Act (IDEA) is likely to become larger and more diverse in the future. Further, with increases in research and knowledge production, existing materials will need to be updated and revised and new materials will need to be created to keep pace with the increased customer demand for up-to-date information. Moreover, innovative approaches to dissemination, for example the use of diverse channels such as Webinars, will be needed to reach these audiences. Similarly, as education audiences increasingly request information through diverse channels, they also will expect this information to be customized and targeted. When information is conveyed using channels and formats aligned with the needs and preferences of end-users, knowledge transfer and learning may be more likely to occur (Hood, 2002). In sum, a new national dissemination center for children with disabilities is needed that will build on the work of NICHCY to respond to the expanding information needs and preferences of diverse audiences.

Priority

The purpose of this priority is to fund a cooperative agreement to support the establishment and operation of a National Dissemination Center for Children with Disabilities (Center). The Center must (a) develop and disseminate information about children with disabilities and IDEA that will be readily accessible to a broad range of audiences, and (b) provide leadership in the design and implementation of integrated, responsive, and effective information dissemination strategies.

To be considered for funding under this absolute priority, applicants must meet the application requirements contained in this priority. Any project funded under this absolute priority also must meet the programmatic and administrative requirements specified in the priority.

Application Requirements. An applicant must include in its application—

(a) A logic model that depicts, at a minimum, the goals, activities, outputs, and outcomes of the proposed project. A logic model communicates how a project will achieve its outcomes and provides a framework for both the formative and summative evaluations of the project;

Note: The following Web site provides more information on logic models and lists multiple online resources: http://www.cdc.gov/eval/resources.htm

(b) A plan to implement the activities described in the Project Activities section of this priority;

(c) A plan, linked to the proposed project's logic model, for a formative evaluation of the proposed project's activities. The plan must describe how the formative evaluation will use clear performance objectives to ensure continuous improvement in the operation of the proposed project, including objective measures of progress in implementing the project and ensuring the quality of products and services. Specifically, the Center must examine its dissemination activities to ensure that the information needs of targeted audiences (e.g., parents, families, early intervention personnel, educators) are being met;

(d) A budget for attendance at the following:

(1) A one and one half day kick-off meeting to be held in Washington, DC within four weeks after receipt of the award, and an annual planning meeting held in Washington, DC with the OSEP Project Officer during each subsequent year of the project period.

(2) A three-day Project Directors' Conference in Washington, DC during each year of the project period.

(3) A four-day Technical Assistance and Dissemination Conference in Washington, DC during each year of the project period.

(4) Three one-day trips annually to attend Department briefings, Department-sponsored conferences, and other meetings, as requested by OSEP; and

(e) A line item in the proposed budget for an annual set-aside of five percent of the award amount to support emerging needs that are consistent with the proposed project's activities, as those needs are identified in consultation with OSEP.

Note: With approval from the OSEP Project Officer, the Center must reallocate any remaining funds from this annual set-aside no later than the end of the third quarter of each budget period.

Project Activities. To meet the requirements of this priority, the Center, at a minimum, must conduct the following activities:

Knowledge Development Activities

(a) Identify and analyze quantitative and qualitative data, and other relevant sources, to determine the topical and informational needs of families, early intervention personnel, and educators. Sources for these data include, but are not limited to, the Regional Resource Centers (RRCs), Parent Technical Assistance Centers, the National Early Childhood Technical Assistance Center, and the Comprehensive Technical Assistance Centers funded through the Office of Elementary and Secondary Education.

(b) Develop strategies, in cooperation with the Technical Assistance Coordination Center (TACC), which OSEP intends to fund in FY 2008, to provide needed information about children with disabilities in a mode and manner easily accessed and understood by diverse audiences, including persons with limited English proficiency, individuals who have low literacy skills or who are not literate, and individuals with disabilities. Strategies must include developing informational materials that are universally designed (for more information on universal design, the following Web site provides multiple online resources: http://www.cast.org) and that are available in alternate formats (e.g., Braille) and languages. Activities must include a review of the efficiency and efficacy of different vehicles for disseminating needed information to various audiences, including those strategies used across OSEP's Technical Assistance and Dissemination (TA&D) Network.

Technical Assistance and Dissemination Activities

(a) Maintain a customer-service response system that enables individuals who request information to access that information in multiple ways. Points of access must include, but not be limited to, a toll-free telephone number, toll-free TTY, e-mail, and a Web site. Information response activities must include developing and disseminating documents and providing referrals to a broad range of service agencies upon request. Information services must be flexible in delivery format and hours of operation and be available, to the maximum extent possible, in multiple languages. The Web site must meet a government- or industry-recognized standard for accessibility and link to the Web site operated by TACC.

(b) Conceptualize, design, and produce an electronic newsletter that informs diverse audiences about the products and services available from OSEP-funded projects, and, as appropriate, products and services available from projects funded by other offices in the Department.

(c) Review IDEA-related materials developed by relevant Federal, State, and local public and private organizations to identify gaps in the information targeted for parents, families, early intervention personnel, and educators and offer recommendations to OSEP's TA&D Network to address these information gaps. Recommendations may include amending existing informational materials or developing new materials. The Center must make selected materials produced available for parents and families in both English and Spanish.

Leadership and Coordination Activities

(a) Establish and maintain an advisory committee to review the activities and outcomes of the Center and provide programmatic support and advice throughout the project period. At a minimum, the advisory committee must meet annually, whether in person, or by phone or another means and consist of family members of children with disabilities, regular and special educators, early intervention personnel, and technical assistance providers, as appropriate. The Center must submit the names of proposed members of the advisory committee to OSEP for approval within eight weeks after receipt of the award.

(b) Collaborate with relevant Federal, State, and local public and private organizations to plan and conduct outreach activities that promote awareness of disability issues using innovative technologies and particularly targeting remote or underserved populations. This plan and annual updates on its implementation must be submitted to OSEP and the advisory committee.

(c) Collect the dissemination plans from OSEP's TA&D projects and provide feedback on ways the projects can improve their respective dissemination plans to reach their target audiences. Based on the review of these plans and a review of evidence-based dissemination practices, develop a comprehensive dissemination strategy for OSEP's TA&D Network.

(d) Communicate and collaborate, on an ongoing basis, with OSEP-funded projects, including TACC, the Consortium for Appropriate Dispute Resolution in Special Education, the National Early Childhood Technical Assistance Center, and the Technical Assistance Alliance for Parent Centers. This collaboration could include the joint development of products, the coordination of TA services, and the planning and carrying out of TA meetings and events.

(e) Participate in, organize, or facilitate, as appropriate, OSEP communities of practice (http://www.tacommunities.org/) that are aligned with the Center's objectives as a way to support discussions and collaboration among key stakeholders.

(f) Prior to developing any new product, whether paper or electronic, submit to the OSEP Project Officer and the Proposed Product Advisory Board at OSEP's TACC for approval, a proposal describing the content and purpose of the product.

(g) Contribute, on an ongoing basis, updated information on the Center's services to OSEP's Technical Assistance and Dissemination Matrix (http://matrix.rrfcnetwork.org/), which provides current information on Department-funded TA services to a range of stakeholders.

(h) Conduct a summative evaluation of the Center in collaboration with the Center to Improve Project Performance (CIPP) as described in the following paragraphs. This summative evaluation must examine the outcomes or impact of the Center's activities in order to assess the effectiveness of those activities.

Note: The major tasks of CIPP are to guide, coordinate, and oversee the summative evaluations conducted by selected Technical Assistance, Personnel Development, Parent Training and Information Center, and Technology projects that individually receive $500,000 or more funding from OSEP annually. The efforts of CIPP are expected to enhance individual project evaluations by providing expert and unbiased assistance in designing evaluations, conducting analyses, and interpreting data.

To fulfill the requirements of the summative evaluation to be conducted under the guidance of CIPP, the Center must—

(1) Hire or designate, with the approval of the OSEP Project Officer, a project liaison staff person with sufficient dedicated time, experience in evaluation, and knowledge of the Center to work with CIPP on the following tasks: (i) Planning the Center's summative evaluation (e.g., selecting evaluation questions, developing a timeline for the evaluation, locating sources of relevant data, and refining the logic model used for the evaluation), (ii) developing the summative evaluation design and instrumentation (e.g., determining quantitative or qualitative data collection strategies, selecting respondent samples, and pilot testing instruments), (iii) coordinating the evaluation timeline with the implementation of the Center's activities, (iv) collecting summative data, and (v) writing reports of summative evaluation findings;

(2) Cooperate with CIPP staff in order to accomplish the tasks described in paragraph (1) of this section; and

(3) Dedicate $50,000 of the annual budget request for this project to cover the costs of carrying out the tasks described in paragraphs (1) and (2) of this section, implementing the Center's formative evaluation, and traveling to Washington, DC in the second year of the project period for the Center's review for continued funding.

(i) Maintain ongoing communication with the OSEP Project Officer through monthly phone conversations and e-mail communication.

Fourth and Fifth Years of the Project

In deciding whether to continue funding the Center for the fourth and fifth years, the Secretary will consider the requirements of 34 CFR 75.253(a), and in addition—

(a) The recommendation of a review team consisting of experts selected by the Secretary. This review will be conducted during a one-day intensive meeting in Washington, DC that will be held during the last half of the second year of the project period. Projects must budget for travel for this one-day intensive review;

(b) The timeliness and effectiveness with which all requirements of the negotiated cooperative agreement have been or are being met by the Center; and

(c) The quality, relevance, and usefulness of the Center's activities and products and the degree to which the Center's activities and products have contributed to changed practice and improved knowledge and awareness regarding the implementation of IDEA.

References

Caffarella, R.S. (2002). Planning programs for adult learners. San Francisco: Jossey-Bass.

Hood, P. (2002). Perspectives on knowledge utilization in education. San Francisco: WestEd.

Kilgore, D.W. (2001). Critical and postmodern perspectives on adult learning. In S. Merriam (Ed). New Directions for Adult and Continuing Education, 89, (pp 53-61). New Jersey: Jossey-Bass Publishing.

Petrides, L.A. & Nodine, T.R. (2003). Knowledge management in education: Defining the landscape. Institute for the Study of Knowledge Management in Education. Available at http://www.iskme.org/what-we-do/publications/km-in-education.

U.S. Department of Education, Office of Special Education and Rehabilitative Services, Office of Special Education Programs, 27th Annual (2005) Report to Congress on the Implementation of the Individuals with Disabilities Education Act. (2007). Washington, DC: Author.

Waiver of Proposed Rulemaking: Under the Administrative Procedure Act (APA) (5 U.S.C. 553), the Department generally offers interested parties the opportunity to comment on proposed priorities and requirements. Section 681(d) of IDEA, however, makes the public comment requirements of the APA inapplicable to the priorities in this notice.

Program Authority: 20 U.S.C. 1463 and 1481.

Applicable Regulations: The Education Department General Administrative Regulations (EDGAR) in 34 CFR parts 74, 75, 77, 79, 80, 81, 82, 84, 85, 86, 97, 98, and 99.

Note: The regulations in 34 CFR part 79 apply to all applicants except federally recognized Indian tribes.

Note: The regulations in 34 CFR part 86 apply to institutions of higher education (IHEs) only.

II. Award Information

Type of Award: Cooperative agreements.

Estimated Available Funds: $2,500,000. Please refer to the “Estimated Available Funds” column of the chart in this section for the estimated dollar amounts for individual competitions.

Estimated Average Size of Awards: See chart.

Maximum Awards: See chart.

Estimated Number of Awards: See chart.

Project Period: See chart.

Individuals With Disabilities Education Act Technical Assistance and Dissemination to Improve Services and Results for Children With Disabilities Application Notice for Fiscal Year 2008
CFDA No. and name | Applications available | Deadline for transmittal of applications | Deadline for intergovernmental review | Estimated available funds | Estimated average size of awards | Maximum award* | Estimated number of awards | Project period | Contact person
84.326A—The IDEA Partnership Project | July 15, 2008 | August 14, 2008 | August 25, 2008 | $1,700,000 | $1,700,000 | $1,700,000 | 1 | Up to 60 months | Debra Price-Ellingstad, (202) 245-7481, Room 4097.
| July 15, 2008 | August 14, 2008 | August 25, 2008
84.326N—National Dissemination Center for Children with Disabilities |  |  |  | $800,000 | $800,000 | $800,000 | 1 | Up to 60 months | Judy Shanley (202) 245-6538, Room 4120.
*We will reject any application that proposes a budget exceeding the maximum award for a single budget period of 12 months. The Assistant Secretary for Special Education and Rehabilitative Services may change the maximum amount through a notice published in the Federal Register.

Note: The Department is not bound by any estimates in this notice.

III. Eligibility Information

1. Eligible Applicants: State educational agencies (SEAs); local educational agencies (LEAs); public charter schools that are considered LEAs under State law; IHEs; other public agencies; private nonprofit organizations; outlying areas; freely associated States; Indian tribes or tribal organizations; and for-profit organizations.

2. Cost Sharing or Matching: The program does not require cost sharing or matching.

3. Other: General Requirements—(a) The projects funded under this program must make positive efforts to employ and advance in employment qualified individuals with disabilities (see section 606 of IDEA).

(b) Applicants and grant recipients funded under this program must involve individuals with disabilities or parents of individuals with disabilities ages birth through 26 in planning, implementing, and evaluating the projects (see section 682(a)(1)(A) of IDEA).

IV. Application and Submission Information

1. Address to Request Application Package: Education Publications Center (ED Pubs), P.O. Box 1398, Jessup, MD 20794-1398. Telephone, toll free: 1-877-433-7827. FAX: (301) 470-1244. If you use a telecommunications device for the deaf (TDD), call, toll free: 1-877-576-7734.

You can contact ED Pubs at its Web site, also: http://www.ed.gov/pubs/edpubs.html or at its e-mail address: edpubs@inet.ed.gov

If you request an application package from ED Pubs, be sure to identify the competition to which you want to apply, as follows: CFDA Number 84.326A or 84.326N.

Individuals with disabilities can obtain a copy of the application package in an alternative format (e.g., Braille, large print, audiotape, or computer diskette) by contacting the person or team listed under Alternative Format in section VIII of this notice.

2. Content and Form of Application Submission: Requirements concerning the content of an application, together with the forms you must submit, are in the application package for each competition announced in this notice.

Page Limit: The application narrative (Part III of the application) is where you, the applicant, address the selection criteria that reviewers use to evaluate your application. You must limit Part III to the equivalent of no more than 70 pages for each absolute priority, using the following standards:

• A “page” is 8.5” x 11”, on one side only, with 1” margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

The page limit does not apply to Part I, the cover sheet; Part II, the budget section, including the narrative budget justification; Part IV, the assurances and certifications; or the two-page abstract, the resumes, the bibliography, the references, or the letters of support. The page limit, however, does apply to the application narrative in Part III.

We will reject your application if you exceed the page limit or if you use other standards and exceed the equivalent of the page limit.

3. Submission Dates and Times:

Applications Available: See chart.

Deadline for Transmittal of Applications: See chart.

Applications for grants under this program may be submitted electronically using the Grants.gov Apply site (Grants.gov), or in paper format by mail or hand delivery. For information (including dates and times) about how to submit your application electronically, or in paper format by mail or hand delivery, please refer to section IV. 6. Other Submission Requirements in this notice.

We do not consider an application that does not comply with the deadline requirements.

Individuals with disabilities who need an accommodation or auxiliary aid in connection with the application process should contact the person listed under For Further Information Contact in section VII in this notice. If the Department provides an accommodation or auxiliary aid to an individual with a disability in connection with the application process, the individual's application remains subject to all other requirements and limitations in this notice.

Deadline for Intergovernmental Review: See chart.

4. Intergovernmental Review: This program is subject to Executive Order 12372 and the regulations in 34 CFR part 79. Information about Intergovernmental Review of Federal Programs under Executive Order 12372 is in the application package for each of the competitions announced in this notice.

5. Funding Restrictions: We reference regulations outlining funding restrictions in the Applicable Regulations section in this notice.

6. Other Submission Requirements: Applications for grants under this program may be submitted electronically or in paper format by mail or hand delivery.

a. Electronic Submission of Applications.

To comply with the President's Management Agenda, we are participating as a partner in the Governmentwide Grants.gov Apply site. The Technical Assistance and Dissemination to Improve Services and Results for Children with Disabilities program, CFDA Numbers 84.326A and 84.326N, announced in this notice are included in this project. We request your participation in Grants.gov.

If you choose to submit your application electronically, you must use the Governmentwide Grants.gov Apply site at http://www.Grants.gov. Through this site, you will be able to download a copy of the application package, complete it offline, and then upload and submit your application. You may not e-mail an electronic copy of a grant application to us.

You may access the electronic grant application for the Technical Assistance and Dissemination to Improve Services and Results for Children with Disabilities program competitions—CFDA numbers 84.326A and 84.326N at http://www.Grants.gov. You must search for the downloadable application package for this program by the CFDA number. Do not include the CFDA number's alpha suffix in your search (e.g., search for 84.326, not 84.326A or 84.326N). Please note the following:

• Your participation in Grants.gov is voluntary.

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not consider your application if it is date and time stamped by the Grants.gov system later than 4:30:00 p.m., Washington, DC time, on the application deadline date. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for the competition to which you are applying to ensure that you submit your application in a timely manner to the Grants.gov system. You also can find the Education Submission Procedures pertaining to Grants.gov at http://e-Grants.ed.gov/help/GrantsgovSubmissionProcedures.pdf.

• To submit your application via Grants.gov, you must complete all steps in the Grants.gov registration process (see http://www.grants.gov/applicants/get_registered.jsp). These steps include: (1) Registering your organization, a multi-part process that includes registration with the Central Contractor Registry (CCR); (2) registering yourself as an Authorized Organization Representative (AOR); and (3) getting authorized as an AOR by your organization. Details on these steps are outlined in the Grants.gov 3-Step Registration Guide (see http://www.grants.gov/section910/Grants.govRegistrationBrochure.pdf). You also must provide on your application the same D-U-N-S Number used with this registration. Please note that the registration process may take five or more business days to complete, and you must have completed all registration steps to allow you to submit successfully an application via Grants.gov. In addition you will need to update your CCR registration on an annual basis. This may take three or more business days to complete.

• You will not receive additional point value because you submit your application in electronic format, nor will we penalize you if you submit your application in paper format.

• If you submit your application electronically, you must submit all documents electronically, including all information you typically provide on the following forms: Application for Federal Assistance (SF 424), the Department of Education Supplemental Information for SF 424, Budget Information—Non-Construction Programs (ED 524), and all necessary assurances and certifications. Please note that two of these forms—the SF 424 and the Department of Education Supplemental Information for SF 424—have replaced the ED 424 (Application for Federal Education Assistance).

• If you submit your application electronically, you must attach any narrative sections of your application as files in a .DOC (document), .RTF (rich text), or .PDF (Portable Document) format. If you upload a file type other than the three file types specified in this paragraph or submit a password-protected file, we will not review that material.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by e-mail. This second notification indicates that the Department has received your application and has assigned your application a PR/Award number (an ED-specified identifying number unique to your application).

• We may request that you provide us original signatures on forms at a later date.

Application Deadline Date Extension in Case of Technical Issues With the Grants.gov System: If you are experiencing problems submitting your application through Grants.gov, please contact the Grants.gov Support Desk, toll-free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under For Further Information Contact in section VII in this notice and provide an explanation of the technical problem you experienced with Grants.gov, along with the Grants.gov Support Desk Case Number. We will accept your application if we can confirm that a technical problem occurred with the Grants.gov system and that that problem affected your ability to submit your application by 4:30:00 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

b. Submission of Paper Applications by Mail

If you submit your application in paper format by mail (through the U.S. Postal Service or a commercial carrier), you must mail the original and two copies of your application, on or before the application deadline date, to the Department at the applicable following address:

By mail through the U.S. Postal Service: U.S. Department of Education, Application Control Center, Attention: (CFDA Number 84.326A or 84.326N), 400 Maryland Avenue, SW., Washington, DC 20202-4260; or

By mail through a commercial carrier:

U.S. Department of Education, Application Control Center, Stop 4260, Attention: (CFDA Number 84.326A or 84.326N), 7100 Old Landover Road, Landover, MD 20785-1506.

Regardless of which address you use, you must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you submit your application in paper format by hand delivery, you (or a courier service) must deliver the original and two copies of your application by hand, on or before the application deadline date, to the Department at the following address: U.S. Department of Education, Application Control Center, Attention: (CFDA Number 84.326A or 84.326N) 550 12th Street, SW., Room 7041, Potomac Center Plaza, Washington, DC 20202-4260.

The Application Control Center accepts hand deliveries daily between 8:00 a.m. and 4:30:00 p.m., Washington, DC time, except Saturdays, Sundays and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this program are from 34 CFR 75.210 and are listed in the application packages for each competition announced in this notice.

2. Peer Review: In the past, the Department has had difficulty finding peer reviewers for certain competitions because so many individuals who are eligible to serve as peer reviewers have conflicts of interest. The Standing Panel requirements under IDEA also have placed additional constraints on the availability of reviewers. Therefore, the Department has determined that, for some discretionary grant competitions, applications may be separated into two or more groups and ranked and selected for funding within specific groups. This procedure will make it easier for the Department to find peer reviewers, by ensuring that greater numbers of individuals who are eligible to serve as reviewers for any particular group of applicants will not have conflicts of interest. It also will increase the quality, independence, and fairness of the review process, while permitting panel members to review applications under discretionary grant competitions for which they also have submitted applications. However, if the Department decides to select an equal number of applications in each group for funding, this may result in different cut-off points for fundable applications in each group.

VI. Award Administration Information

1. Award Notices: If your application is successful, we notify your U.S. Representative and U.S. Senators and send you a Grant Award Notice (GAN). We may notify you informally, also.

If your application is not evaluated or not selected for funding, we notify you.

2. Administrative and National Policy Requirements: We identify administrative and national policy requirements in the application package and reference these and other requirements in the Applicable Regulations section in this notice.

We reference the regulations outlining the terms and conditions of an award in the Applicable Regulations section in this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as directed by the Secretary under 34 CFR 75.118. The Secretary also may require more frequent performance reports under 34 CFR 75.720(c). For specific requirements on reporting, please go to http://www.ed.gov/fund/grant/apply/appforms/appforms.html

4. Performance Measures: Under the Government Performance and Results Act of 1993 (GPRA), the Department has established a set of performance measures, including long-term measures, that are designed to yield information on various aspects of the effectiveness and quality of the Technical Assistance and Dissemination to Improve Services and Results for Children with Disabilities program. These measures focus on the extent to which projects provide high quality products and services, the relevance of project products and services to educational and early intervention policy and practice, and the use of products and services to improve educational and early intervention policy and practice. The grantee will be required to provide information related to these measures.

The grantee also will be required to report information on the project's performance in annual reports to the Department (34 CFR 75.590).

VII. Agency Contact

For Further Information Contact: See chart in the Award Information section of this notice for the name, room number and telephone number of the contact person for each competition. You can write to the contact at the following address: U.S. Department of Education, 400 Maryland Avenue, SW., Potomac Center Plaza (PCP), Washington, DC 20202-2550.

If you use a TDD, call the Federal Relay Service (FRS), toll-free, at 1-800-877-8339.

VIII. Other Information

Alternative Format: Individuals with disabilities can obtain this document and a copy of the application package in an alternative format (e.g., Braille, large print, audiotape, or computer diskette) by contacting the Grants and Contracts Services Team, U.S. Department of Education, 400 Maryland Avenue, SW., room 5075, PCP, Washington, DC 20202-2550. Telephone: (202) 245-7363. If you use a TDD, call the FRS, toll free, at 1-800-877-8339.

Electronic Access to This Document: You can view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: July 10, 2008.
Tracy R. Justesen,
Assistant Secretary for Special Education and Rehabilitative Services.

[FR Doc. E8-16128 Filed 7-14-08; 8:45 am]

BILLING CODE 4000-01-P